DEPARTMENT OF HEALTH AND HUMAN SERVICES

Office of the Secretary

Findings of Research Misconduct; Correction

AGENCY: Office of the Secretary, HHS.

ACTION: Correction of notice.

SUMMARY: This document corrects an error that appeared in the notice published in the July 31, 2015, Federal Register entitled “Findings of Research Misconduct.”

DATES: Effective Date: August 11, 2015. Applicability Date: The correction notice is applicable for the Findings of Research Misconduct notice published on July 31, 2015.

FOR FURTHER INFORMATION CONTACT: Ms. Karen Gorirossi or Dr. Kristen Grace at 240-453-8800.

SUPPLEMENTARY INFORMATION:

I. Background

In FR Doc. 2015-18794 of July 31, 2015 (80 FR 45661-45662), there is an error in the grant information. The error is identified and corrected in the Correction of Errors section below.

II. Correction of Errors

In FR Doc. 2015-18794 of July 31, 2015 (80 FR 45661-45662), make the following correction:

1. On page 45661, third column, in FR Doc. 2015-18794, second paragraph, last line, delete “and TA MH020002” so that the last two lines of the paragraph read “grants R01 MH087214 and R01 MH077105.”

Dated: July 31, 2015.
Donald Wright,
Acting Director, Office of Research Integrity.

[FR Doc. 2015-19738 Filed 8-10-15; 8:45 am]

BILLING CODE 4150-31-P